DEPARTMENT OF EDUCATION

List of Approved “Ability-to-Benefit” (ATB) Tests and Passing Scores

AGENCY: Office of Postsecondary Education, Department of Education.

ACTION: Notice.

SUMMARY: This notice updates the list of ATB tests approved by the Secretary.

FOR FURTHER INFORMATION CONTACT: Aaron Washington, U.S. Department of Education, 400 Maryland Avenue SW, Room 294-12, Washington, DC 20202. Telephone: (202) 987-0911. Email: Aaron.Washington@ed.gov.

If you are deaf, hard of hearing, or have a speech disability and wish to access telecommunications relay services, please dial 7-1-1.

SUPPLEMENTARY INFORMATION: In order for a student who does not have a high school diploma or its recognized equivalent to be eligible for title IV program assistance, the student must successfully complete one of the ATB alternatives (listed below) and be enrolled in an eligible career pathway program (ECPP) ¹ pursuant to section 484(d)(1) of the Higher Education Act of 1965, as amended (HEA).

¹ A student that enrolled in an eligible program at an eligible title IV institution prior to July 1, 2012 does not have to enroll in an ECPP. While this will be a very rare occurrence, please see DCL GEN 12-09 for more guidance. https://fsapartners.ed.gov/knowledge-center/library/dear-colleague-letters/2012-06-28/gen-12-09-subjecttitle-iv-eligibility-students-without-valid-high-school-diploma.

The ATB alternatives are—

• Passing an independently administered ATB test approved by the Secretary;

• Completing at least six credit hours, or the equivalent coursework (225 clock hours), that are applicable toward a degree or certificate offered by the postsecondary institution; or

• Completing a State process approved by the Secretary.

With respect to the ATB test alternative, there are specific requirements for students whose native language is not English, and who are not fluent in English. Those students must comply with one of the three following options:

1. A student who is enrolled in a program that is taught in the student's native language must take an approved test developed in the student's native language pursuant to 34 CFR 668.153(a)(1). Currently there are no approved ATB tests in a language other than English. Therefore, these students must use one of the remaining two ATB alternatives to qualify for title IV aid;

2. A student who is enrolled in a program that is taught in English must take an ATB test designed to measure the English language competence of a non-native speaker. Students who are enrolled in such a program that has an “English as a Second Language” (ESL) component and who are enrolled in the ESL component, must take an approved ATB test specifically for a student whose native language is not English and who is not fluent in English, pursuant to 34 CFR 668.153(a)(2). Similarly, students who are enrolled in an ESL only program must take an approved ATB test specifically for a student whose native language is not English and who is not fluent in English, pursuant to 34 CFR 668.153(a)(2);

3. A student who is enrolled in a program that is taught in English without an ESL component, or does not enroll in the ESL component of the program, must take an ATB test in English that assesses secondary school verbal and quantitative skills, pursuant to 34 CFR 668.153(a)(3).

List of approved tests and passing scores: The Secretary lists below all approved ATB tests and their passing scores. The list is updated to reflect revisions to the list of approved ATB tests and passing scores that was published in the Federal Register on November 9, 2020 (85 FR 71326).

ATB test | Passing scores | Test publisher contact information
* Combined English Language Skills Assessment (CELSA), Forms 1 and 2 Effective Date: November 1, 2002 | CELSA Form 1 (97), CELSA Form 2 (97) | Association of Classroom Teacher Testers (ACCT), 1187 Coast Village Road, Suite 1, #378, Montecito, CA 93108. Contact: Telephone: (805) 965-5704. Fax: (805) 965-5807. Email: actt@cappassociates.com.
ACCUPLACER Computer-adaptive tests and COMPANION ACCUPLACER Forms J and K: Reading Test, Writing Test, and Arithmetic Test | Reading Test (233), Writing Test (235), Arithmetic Test (230) | The College Board, 250 Vesey Street, New York, NY 10281. Contact: ACCUPLACER Program. Telephone: (800) 607-5223. Email: accuplacer@collegeboard.org.
** Texas Success Initiative (TSI) Assessment—Computer-adaptive tests and COMPANION TSI Forms T and V: Reading Placement Test, Writing Placement Test, Mathematics Placement Test | Reading Placement Test (336), Writing Placement Test (345), Mathematics Placement Test (326)
* Note: As provided in 34 CFR 668.153(a)(2), the CELSA test is approved as the additional ATB English language proficiency test that must be taken by students whose native language is not English and who are not fluent in English if the academic program includes an ESL component.
** Note: TSI remains a provisionally approved test and can continue to be used to establish title IV aid eligibility. If the Department denies full approval, we will provide notice of the denial through publication in the Federal Register, pursuant to 34 CFR 668.150(c)(3).

List of ATB tests that are no longer approved: The following tests are no longer included on the approved list of tests that may be used for the purpose of determining a student's eligibility for title IV program assistance. Please note the effective dates for each test.

1. Test: The ACT Career Programs Assessment test (CPAt)—Forms B and C.

Effective Dates: November 1, 2002, through June 30, 2015.

Passing Scores: Language Usage (42), Reading (43), and Numerical (41).

Publisher: ACT, Inc., 500 ACT Drive, P.O. Box 168, Iowa City, IA 52243-0168.

Contact: https://global.act.org/content/global/en/global-programs/contact-us.html.

2. Test: The ACT WorkKeys test—Reading for Information—Forms A01AA, A02AA, C01AA, & D10AA; Applied Mathematic—Forms A01BB, A02BB, C01BB, & D01BB.

Effective Dates: May 19, 2006, through June 30, 2015.

Passing Scores: Reading for Information Forms A01AA (76), A02AA (75), C01AA (77), & D10AA (77); Applied Mathematics Forms A01BB (73), A02BB (74), C01BB (73), & D01BB (73).

Publisher: ACT, Inc., 500 ACT Drive, P.O. Box 168, Iowa City, IA 52243-0168.

Contact: https://global.act.org/content/global/en/global-programs/contact-us.html.

3. Test: The College Board DTLS and DTMS Forms M-K-3KDT and M-K-3LDT tests.

Effective Dates: November 1, 2002, through April 27, 2007.

Passing Scores: Reading Comprehension (108), Sentence Structure (9), Conventions of Written English (309), and Arithmetic (506).

Publisher: The College Board, 250 Vesey Street, New York, New York 10281.

Contact: ACCUPLACER Program; Telephone: (866) 630-9305. Email: https://form.collegeboard.org/f/send-message.

4. Test: ASSET: Basic Skills Test (Reading, Writing, and Numerical)—Forms B2, C2, D2, and E2.

Effective Dates: November 1, 2002, through October 31, 2015.

Passing Scores: Reading (35), Writing (35), and Numerical (33).

Publisher: ACT, Inc., 500 ACT Drive, P.O. Box 168, Iowa City, IA 52243-0168.

Contact: https://global.act.org/content/global/en/global-programs/contact-us.html.

5. Test: COMPASS Subtests—Prealgebra/Numerical Skills.

Passing Scores: Prealgebra/Numerical (25), Reading (62), and Writing (32).

Effective Dates: November 1, 2002, through October 31, 2015.

Publisher: ACT, Inc., 500 ACT Drive, P.O. Box 168, Iowa City, IA 52243-0168.

Contact: https://global.act.org/content/global/en/global-programs/contact-us.html.

6. Test: COMPASS ESL.

Passing Scores: Grammar/Usage (64), Reading (70), and Listening (70).

Effective Dates: May 19, 2006, through October 31, 2015.

Publisher: ACT, Inc., 500 ACT Drive, P.O. Box 168, Iowa City, IA 52243-0168.

Contact: https://global.act.org/content/global/en/global-programs/contact-us.html.

7. Test: Wonderlic Basic Skills Test (WBST) Verbal Forms VS-1 & VS-2, Quantitative Forms QS-1 & QS-2 Paper and pencil versions and online versions.

Effective Dates: July 1, 2015, through March 31, 2023.

Publisher: Wonderlic, Inc., 400 Lakeview Parkway, Suite 200, Vernon Hills, IL 60061.

Contact: https://wonderlic.com/contact-us/

8. Test: Spanish Wonderlic Basic Skills Test (Spanish WBST) Verbal Forms VS-1 & VS-2, Quantitative Forms QS-1 & QS-2 Paper and pencil versions and online versions.

Effective Dates: July 1, 2015 through March 31, 2023.

Publisher: Wonderlic, Inc., 400 Lakeview Parkway, Suite 200, Vernon Hills, IL 60061.

Contact: https://wonderlic.com/contact-us/.

Accessible Format: Individuals with disabilities can obtain this document in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Program Authority: 20 U.S.C. 1091(d).

Nasser H. Paydar,
Assistant Secretary, Office of Postsecondary Education.

[FR Doc. 2024-13175 Filed 6-13-24; 8:45 am]

BILLING CODE 4000-01-P